DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed three-year extension to the following Petroleum Supply Forms:

EIA-800, “Weekly Refinery and Fractionator Report,”

EIA-801, “Weekly Bulk Terminal Report,”

EIA-802, “Weekly Product Pipeline Report,”

EIA-803, “Weekly Crude Oil Stocks Report,”

EIA-804, “Weekly Imports Report,”

EIA-805, “Weekly Terminal Blenders Report,”

EIA-810, “Monthly Refinery Report,”

EIA-811, “Monthly Bulk Terminal Report,”

EIA-812, “Monthly Product Pipeline Report,”

EIA-813, “Monthly Crude Oil Report,”

EIA-814, “Monthly Imports Report,”

EIA-815, “Monthly Terminal Blenders Report,”

EIA-816, “Monthly Natural Gas Liquids Report,”

EIA-817, “Monthly Tanker and Barge Movement Report,”

EIA-819, “Monthly Oxygenate Report,” and

EIA-820, “Annual Refinery Report”

DATES: Comments must be filed by August 4, 2006. If you anticipate difficulty in submitting comments within that period, contact the person listed below as soon as possible.

ADDRESSES: Send comments to Stefanie Palumbo. To ensure receipt of the comments by the due date, submission by FAX (202-586-5846) or e-mail (stefanie.palumbo@eia.doe.gov) is recommended. The mailing address is Petroleum Division, EI-42, Forrestal Building, U.S. Department of Energy, Washington, DC 20585. Alternatively, Stefanie Palumbo may be contacted by telephone at 202-586-6866.

FOR FURTHER INFORMATION CONTACT: Requests for additional information or copies of any forms and instructions should be directed to Stefanie Palumbo at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

The weekly petroleum supply surveys (Forms EIA-800, EIA-801, EIA-802, EIA-803, EIA-804, and EIA-805) are designed to highlight information on petroleum refinery operations, inventory levels, and imports of selected petroleum products in a timely manner. The information appears in the publications listed below and is also available electronically through the Internet at http://www.eia.doe.gov/.

Publications: Internet only publications are the Weekly Petroleum Status Report, Short-Term Energy Outlook, and This Week in Petroleum. Hardcopy and Internet publications are the Monthly Energy Review (DOE/EIA-0035) and the Annual Energy Outlook (DOE/EIA-0383).

The monthly petroleum supply surveys (Forms EIA-810, EIA-811, EIA-812, EIA-813, EIA-814, EIA-815, EIA-816, EIA-817, and EIA-819) are designed to provide statistically reliable and comprehensive information not available from other sources to EIA, other Federal agencies, and the private sector for use in forecasting, policy making, planning, and analysis activities. The information appears in the publications listed below and is also available electronically through the Internet at http://www.eia.doe.gov/.

Publications: Internet only publications are the Weekly Petroleum Status Report, Petroleum Supply Monthly, Petroleum Supply Annual, and Short-Term Energy Outlook. Hardcopy and internet publications are the Monthly Energy Review (DOE/EIA-0035), the Annual Energy Review (DOE/EIA-0384), and the Annual Energy Outlook (DOE/EIA-0383).

The annual petroleum supply survey (Form EIA-820) provides data on the operations of all operating and idle petroleum refineries (including new refineries under construction), blending plants, refineries shutdown with useable storage capacity, and refineries shutdown during the previous year. The information appears in the Petroleum Supply Annual and is available electronically through the Internet at http://www.eia.doe.gov/.

II. Current Actions

The EIA will request a three-year extension of the collection approval for each of the above-referenced surveys with no changes to previously approved collections.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average:

Estimated Hours Per Response in 2007

EIA-800, “Weekly Refinery and Fractionator Report,”—1.58 hours

EIA-801, “Weekly Bulk Terminal Report,”—0.95 hours

EIA-802, “Weekly Product Pipeline Report,”—0.95 hours

EIA-803, “Weekly Crude Oil Stocks Report,”—0.50 hours

EIA-804, “Weekly Imports Report,”—1.58 hours

EIA-805, “Weekly Terminal Blenders Report,”—0.58 hours

EIA-810, “Monthly Refinery Report,”—4.74 hours

EIA-811, “Monthly Bulk Terminal Report,”—2.21 hours

EIA-812, “Monthly Product Pipeline Report,”—2.85 hours

EIA-813, “Monthly Crude Oil Report,”—1.50 hours

EIA-814, “Monthly Imports Report,”—2.53 hours

EIA-815, “Monthly Terminal Blenders Report,”—1.15 hours

EIA-816, “Monthly Natural Gas Liquids Report,”—0.95 hours

EIA-817, “Monthly Tanker and Barge Movement Report,”—2.21 hours

EIA-819, “Monthly Oxygenate Report,”—0.63 hours

EIA-820, “Annual Refinery Report”—2.30 hours

The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the forms . They also will become a matter of public record.

Statutory Authority: Section 3507(h)(1) of the Paperwork Reduction Act of 1995 (Pub. L. 104-13, 44 U.S.C. Chapter 35).

Issued in Washington, DC, May 22, 2006.
Jay H. Casselberry,
Agency Clearance Officer, Energy Information Administration.

[FR Doc. E6-8657 Filed 6-2-06; 8:45 am]

BILLING CODE 6450-01-P